DEPARTMENT OF JUSTICE

Antitrust Division

Notice Pursuant to the National Cooperative Research and Production Act of 1993—The Open Group, L.L.C.

Notice is hereby given that, on February 28, 2023, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, API Holdings I LP, Marlborough, MA; Blue Marble Geographics, Hallowell, ME; CERTyou, Paris, FRANCE; Charles Schwab & Co., Austin, TX; CNO Services, LLC, Carmel, IN; Compass. UOL Technologia LTDA, Passo Fundo, BRAZIL; RoboTech Science, Inc. dba Cyberscend, Lorton, VA; Dee Ann IT Consulting LLP, Nalagandla, INDIA; Echodyne Corporation, Kirkland, WA; Global Air Logistics and Training, Inc., San Diego, CA; GEOMAR Helmholtz Zentrum fuer Ozeanforschung Kiel, Kiel, GERMANY; Glenair, Inc., Glendale, CA; Great River Technology, Inc., Albuquerque, NM; Growth Continue Training, Rond Point Palmerai, REPUBLIC OF CÔTE D'IVOIRE; Inertialwave, Inc., Torrance, CA; Intelligent Artifacts, Inc., New York, NY; Interface Concept, Inc., Cambridge, MA,; Deere & Company, East Moline, IL; MYVIGIE SAS, Saint-Pierre-du-Perray, FRANCE; Naval Information Warfare Center Atlantic, North Charleston, SC; Novus Labs, Hillsboro, OR; Ostrich Cyber-Risk, Cottonwood Heights, UT; Polskie Gornictwo Naftowe i Gazownictwo SA, Warszawa, POLAND; PLB Consultant, Levallois, FRANCE; PM Expert Group UK LIMITED, Noida, INDIA; QuEST Global Services Pte. Ltd., Singapore, SINGAPORE; SERVIEW GmbH, Bad Homburg v. d. H., GERMANY; SmartCore Digital Sdn. Bhd., Shah Alam, MALAYSIA; Snowflake, Inc., Bozeman, MT; Softeq Development Corp, Houston, TX; Stepwise AS, Oslo, NORWAY; Thales UK, Crawley, UNITED KINGDOM; Thoughtworks, Inc., Chicago, IL; ThreatConnect, Inc., Arlington, VA; TurbineOne, Inc., San Francisco, CA; and Wood Mackenzie, Inc., Houston, TX, have been added as parties to this venture.

Also, Acuity Risk Management LLP, London, UNITED KINGDOM; Belmont Technology Inc., Houston, TX; Cerner Corporation, Kansas City, MO; ChampionX, The Woodlands, TX; CIBIT Academy B.V., Velp, THE NETHERLANDS; CourseMonster Pty Ltd, Melbourne, AUSTRALIA; Deeplight Technologies, Reading, UNITED KINGDOM; Engineered Products of Ohio, LLC, Cortland, OH; Full-Stack Architecture International, LLC, Boca Raton, FL; ISM3 Consortium, Madrid, SPAIN; Japan Oil, Gas and Metals National Corporation, Tokyo, JAPAN; Kelvin, Inc., Portola Valley, CA; Leviathan Security Group, Inc., Seattle, WA; Lundin Norway AS, Lysaker, NORWAY; Mosaic451, LLC, Phoenix, AZ; Paradigm Geophysical Corporation, Houston, TX; Radiall USA Inc., Tempe, AZ; SMATMASS Pty Ltd, Johannesburg, SOUTH AFRICA; Tatsoft LLC, Arlington Heights, IL; TechnipFMC plc, Houston, TX; U.S. Space Force Space and Missile Systems Center, El Segundo, CA; and University of St. Thomas Graduate Programs in Software, St. Paul, MN, have withdrawn as parties to this venture.

Additionally, BIZZdesign Holding has changed its name to BIZZdesign BV, Enschede, THE NETHERLANDS; IHS Markit to S&P Global Inc., New York, NY; Larsen Toubro Infotech Ltd to LTIMindtree Limited, Mumbai, INDIA; SARL SMARTEST to SARL DIGIWAVES, Ouled Fayet, ALGERIA; and Thales USA, Inc. to Thales Avionics, Inc., Piscataway, NJ.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on November 11, 2022. A notice was published in the Federal Register pursuant to Section 6(b) of the Act on January 24, 2023 (88 FR 4209).

Suzanne Morris,
Deputy Director, Civil Enforcement Operations, Antitrust Division.

[FR Doc. 2023-06212 Filed 3-24-23; 8:45 am]

BILLING CODE P